NATIONAL SCIENCE FOUNDATION

U.S. National Assessment Synthesis Team; Notice of Final Report

The National Science Foundation (NSF) announces that the following advisory committee, established pursuant to the Federal Advisory Committee Act (FACA) (Public Law 92-463, as amended), completed its work and issued its final report on October 31, 2000. As this committee was established under the auspices of the interagency Subcommittee on Global Change Research (SGCR), see 63 Fed. Reg. 9267 (Feb. 24, 1998), its final report (which followed a 6-day public comment period) was provided to the SGCR Chair and a copy sent to the NSF.

Name: U.S. National Assessment Synthesis Team (#5219).

Availability of Report: The report is viewable and downloadable on the Worldwide Web at www.gcrio.org/NationalAssessment/. Publication is in progress and information on ordering a copy of the report is also provided on the Website. The report is also available for public inspection and use at the Library of Congress in accordance with section 13 of the FACA.

Contact Person: Tom Spence, National Science Foundation, 4201 Wilson Blvd., Suite 705, Arlington, VA 22230. Telephone: (703) 292-8500.

Dated: November 27, 2000.
Karen J. York,
Committee Management Officer.

[FR Doc. 00-30576 Filed 11-30-00; 8:45 am]

BILLING CODE 7555-01-M